DEPARTMENT OF HEALTH AND HUMAN SERVICES

Administration for Children and Families

Submission for OMB Review; Comment Request

Title: FPLS Child Support Services Portal Registration (FCSSP).

OMB No.: New Collection.

Description: The Federal Office of Child Support Enforcement (OCSE) is implementing the Federal Parent Locator Service (FPLS) Child Support Services Portal (FCSSP) for users of the FPLS to access online Web applications. The portal Registration Process will provide OCSE, States, employers and multistate financial institutions the ability to create a secure account to view data for their respective applications. In order for users to access the portal, registration is required.

Respondents: OCSE, Employers, Multistate Financial Institutions and State Child Support Agencies.

Annual Burden Estimates

Instrument | Number of respondents | Number of responses per respondent | Average burden hours per response | Total burden hours
Registration Screens: Employers, Financial Institutions and State Child Support Agencies | 520 | 1 | 0.10 | 52

Estimated Total Annual Burden Hours: 52.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245. Attn: Desk Officer for the Administration for Children and Families.

Dated: July 23, 2009.
Janean Chambers,
Reports Clearance Officer.

[FR Doc. E9-17886 Filed 7-27-09; 8:45 am]

BILLING CODE 4184-01-P